DEPARTMENT OF ENERGY

Federal Energy Regulatory Commission

[Docket No. RP01-494-000]

Dominion Transmission, Inc.; Notice of Tariff Filing

August 8, 2001.

Take notice that on July 31, 2001, Dominion Transmission Inc. (DTI) tendered for filing as part of its FERC Gas Tariff, Third Revised Volume No. 1, First Revised Sheet No. 1000 and First Revised Sheet No. 1162, with an effective date of September 1, 2001.

DTI states that the purpose of this filing is to modify DTI's tariff to provide for a general wavier of the “shipper must have title rule” in the event DTI is transporting gas for others on acquired off-system capacity and to include a general statement that DTI will only transport for others using off-system capacity pursuant to its existing tariff and rates. DTI states that it is also making other, related changes to update Section 25 of the General Terms and Conditions of its FERC Gas tariff.

DTI states that copies of its letter of transmittal and enclosures are being mailed to its customers and to interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20332 Filed 8-13-01; 8:45 am]

BILLING CODE 6717-01-P